DEPARTMENT OF THE INTERIOR

Fish and Wildlife Service

50 CFR Part 17

RIN 1018-AH50

Endangered and Threatened Wildlife and Plants; Proposed Rule To Remove the Mariana Mallard and the Guam Broadbill From the Federal List of Endangered and Threatened Wildlife

AGENCY: Fish and Wildlife Service, Interior.

ACTION: Proposed rule.

SUMMARY: Under the authority of the Endangered Species Act of 1973 (Act), as amended, we, the U.S. Fish and Wildlife Service (Service), propose to remove the Mariana mallard (Anas platyrynchos oustaleti) and the Guam broadbill (Myiagra freycineti) from the Federal List of Endangered and Threatened Wildlife. All available information indicates that these birds are extinct. The Mariana mallard was endemic to the islands of Guam, Tinian, Saipan, and possibly Rota, of the Mariana Archipelago in the western Pacific ocean. It was listed as endangered on June 2, 1977, because its population was critically low due to excessive hunting and loss of wetland habitat. No confirmed sightings of the Mariana mallard have been made since 1979. The Guam broadbill, endemic to Guam, was listed as endangered on August 27, 1984, because its population was critically low. No confirmed sightings or other evidence of the Guam broadbill in the Pajon Basin have been made since May 15, 1984. This proposal, if made final, would remove Federal protection provided by the Act for these species. Removal of the Mariana mallard and the Guam broadbill from the Federal list of Endangered and Threatened Wildlife does not alter or supersede their designation by the government of Guam as endangered species. The Mariana mallard is not a protected wildlife species by the government of the Commonwealth of the Northern Mariana Islands (CNMI).

DATES: Comments must be received by March 26, 2002. Public hearing requests must be received by March 11, 2002.

ADDRESSES: Send comments and materials concerning this proposal to the Field Supervisor, U.S. Fish and Wildlife Service, Pacific Islands Ecoregion, 300 Ala Moana Boulevard, Room 3-122, Box 50088, Honolulu, Hawaii 96850. Comments and materials received will be available for public inspection, by appointment, during normal business hours at the above address.

FOR FURTHER INFORMATION CONTACT: Paul Henson (see ADDRESSES section), telephone 808/541-2749; facsimile 808/541-2756; e-mail paul_;henson@fws.gov.

SUPPLEMENTARY INFORMATION:

Background

The Mariana mallard (Anas platyrynchos oustaleti) (Salvadori 1894) was first described by Salvadori based on six specimens collected from Guam in 1887 and 1888 (Reichel and Lemke 1994, Stinson 1994). The species is believed to have been a subspecies that originated as a hybrid between the common mallard (Anas platyrhynchos) and the grey duck (Anas superciliosa) (Reichel and Lemke 1994).

The Mariana mallard is known only from Guam, Tinian, and Saipan of the Marianas Archipelago. There is an unverified sighting of two “unidentified ducks” on Rota on October 20, 1945 (Baker 1948) and one specimen of Anas sp. found during a 1990 excavation of a late Holocene deposit in Payapai Cave, Rota (Steadman 1992). Other than these records, the Mariana mallard has never been reported on Rota. There are no records of this species from the more northern islands in the archipelago.

First collected by the early explorers in the late 1800s, only sporadic notes and observations have been made on this species. Marche (Baker 1951) collected six specimens from Guam in 1888. Collections from the time of Marche showed that the Mariana mallard concurrently inhabited the islands of Saipan and Tinian. A total of 38 specimens were collected from Tinian and Saipan by Japanese collectors between 1931 and 1940 (Baker 1951). There are probably fewer than 50 specimens of the Mariana mallard in collections in France, Japan, the United States, and elsewhere. Reichel and Lemke (1994) were able to locate 37 specimens. Most of these were collected by the Japanese in the 1930s and 1940s.

The Mariana mallard probably was never abundant (Baker 1951) due to limited habitat availability. There have never been extensive freshwater marshes or swamps in the Mariana Archipelago. The largest number of Mariana mallards ever recorded was by Kuroda (1942) who reported that his collector saw 2 flocks of 50 to 60 Mariana mallards at 2 locations at Lake Hagoi, Tinian. Gleize (1945) estimated a population of 12 mallards on Tinian. Marshall (1949) recorded their presence at both Lake Susupe, Saipan, and Lake Hagoi, Tinian. However, he speculated that they flew between the two islands as he never saw them at “both * * * lakes during any one month.” The last confirmed sighting of this species was in 1979 by Eugene Kridler of the Service who estimated that there were probably fewer than a dozen Mariana mallards remaining (Kridler 1979). At this time, Mr. Kridler collected a pair of birds for captive propagation. Captive breeding was first conducted at Pohakuloa, Hawaii, then at Sea World, San Diego, California. These attempts failed and the last known Mariana mallard died at Sea World, San Diego in 1981 (Stinson 1995).

On Guam, the last recorded sighting of the Mariana mallard was made by G.S.A. Perez on February 25, 1967 (Drahos 1977). Wetland surveys were conducted on Guam from the late 1960s through the 1980s; however, no Mariana mallards were seen (Engbring et al. 1986, Stinson et al. 1991, Reichel et al. 1992).

Small populations persisted on Tinian and Saipan until the late 1970s (Pratt et al. 1979, Stinson 1995). No confirmed sightings of the Mariana mallard have been made since 1979. Extensive surveys were conducted intermittently from 1982 through 1984 by us and staff from the Division of Fish and Wildlife (DFW) of the Commonwealth of the Northern Mariana Islands (CNMI). All of the known wetland habitat in the CNMI was surveyed. There were no confirmed sightings or vocalizations (U.S. Fish and Wildlife Service 1983). A special effort was made to search for the Mariana mallard during forest bird surveys conducted on the islands of Saipan, Tinian, Rota, and Agiguan in 1982. Teams comprising biologists and biotechnicians simultaneously surveyed wetlands on Saipan and Tinian from which the most recent (1979) sightings of the mallard had been recorded to determine the status and distribution of this species. No mallards were observed on either island (U.S. Fish and Wildlife Service 1983).

During the period from May, 1983, through December, 1989, biologists from the CNMI's DFW conducted 5 to 79 surveys of each permanent wetland and each seasonal wetland greater than 0.5 hectares (1.2 acres) in the CNMI (230 surveys). Wetlands that contained better mallard habitat were surveyed more often. Surveys occurred year round and the greatest frequency occurred from May through September (112 surveys) to coincide with the historical nesting season of the Mariana mallards. No Mariana mallards were seen during these intensive and systematic searches. The determination of the investigators at the conclusion of these surveys was that the Mariana mallard was extinct (Reichel and Lemke 1994). Researchers and managers currently in Guam and the CNMI concur that the Mariana mallard is probably extinct, as it has not been seen since 1979 despite frequent and intensive surveys of wetlands for waterbirds such as the endangered Mariana common moorhen (Gallinula chloropus guami) (Evans et al. 1996; Gary Wiles, Guam Division of Aquatic and Wildlife Resources (DAWR), pers. comm. 1998; Mike Ritter, Service, pers. comm. 1998).

The Mariana mallard's reduction in range and eventual extinction has been attributed to habitat loss and hunting, especially during, and immediately after, World War II (WWII) (Baker 1948, Engbring and Fritts 1988, Reichel and Lemke 1994). Evolving without predators, the mallard was not wary of humans and easily caught (Kuroda 1942, Stott 1947). They were hunted and trapped for food (Fritz 1904, Safford 1904). Safford (1904) reported that the Mariana mallard was “the best game bird” and “very highly esteemed for food.” Kuroda (1942) reported that there was a hunting season on Saipan from July through December, but no hunting was allowed on Tinian. However, it is unknown if these regulations were enforced. After WWII, islanders were allowed to own firearms and hunting of the birds persisted. Even with the designation of the species as endangered by the Trust Territories and the Service, there was little enforcement of the regulations (Drahos 1977).

Habitat loss due to draining and fragmentation of wetlands have greatly reduced the quantity and quality of wetlands on Guam, Tinian, and Saipan (Stinson et al. 1991, Reichel et al. 1992, Reichel and Lemke 1994). Though early reports on Tinian mention two lakes, Lake Hagoi is the only lake currently found on the island. It is probable that the second lake referenced is now known as Makpo Swamp. It is currently too overgrown with woody vegetation to be mallard habitat. Additionally, this wetland has been drained for water for San Jose village and converted into farmland (Bowers 1950, Reichel and Lemke 1994). During the Japanese occupation of Saipan and Tinian between 1914 and 1945, most wetlands were channelized and converted to rice paddies. Also during this time, sugarmill wastes were discharged into Lake Susupe on Saipan. Since 1945, many wetlands have been drained or filled in the course of urban development on all three islands (Stinson et al. 1991, Reichel et al. 1992, Reichel and Lemke 1994). The Mariana mallard, never great in number, lost most of its limited habitat with the decimation of the wetlands, while being hunted with little to no restriction.

The Guam broadbill (Myiagra freycineti), a member of the family Muscicapidae, was endemic to the island of Guam in the Mariana Archipelago (U.S. Fish and Wildlife Service 1990). First collected by explorers in 1820, the specimens were labeled “kingfisher with a russet throat” and erroneously noted as being from Australia (Oustalet 1895). Marché collected 23 specimens in 1887 and 1888, from which Oustalet described Myiagra freycineti (Oustalet 1895).

Although the species was probably never abundant, a reduction in the range of the Guam broadbill was noted from 1950 into the early 1980s. Prior to 1950, the species occupied 500 square kilometers (sq km) (193 sq miles (mi)) of habitat throughout the island of Guam. By 1950, broadbill range had been reduced to 312 sq km (120 sq mi) or 62 percent of its former range (Ernie Kosaka, Service, in litt. 1982). By the early 1970s, the species was entirely absent from the southern two-thirds of the island but still relatively common in northern Guam into the mid-1970s. Decline of the Guam broadbill continued with no individuals detected on northern roadside counts that were initiated in 1973 (Drahos 1977). Further losses were attributed to super typhoon Pamela in 1976 (Joseph E. Ada, Acting Governor of Guam, in litt. 1979). By 1979, the Guam broadbill was restricted to the remaining areas of natural vegetation that occurred primarily along the northern cliff line in a thin strip from Naval Communication Station (NCS) Beach through Catalina Point on the eastern side of Guam (DAWR 1979-1986). At that time, the Guam broadbill had the lowest relative abundance and the lowest density of any native passerine during station counts. Although relative densities of the broadbill were highest at Pati and Ritidian Points and Tarague in 1980, the species was recorded only at Ritidian and Urunao Points and Anderson Air Force Base in 1981. This represented a further reduction of habitat range to 43 sq km (16.6 sq mi) or 9 percent of its original range (Engbring and Pratt 1985). Combined broadbill densities showed a 70 percent decline since 1979 (DAWR 1979-1986). By 1983, the population had declined 83 percent in the Ritidian Basin area (DAWR 1979-1986) and was further restricted to the extreme northern end of Guam in the Pajon Basin in 150 hectares (ha) (370 acres (ac)) or 1.5 sq km (0.57 sq mi) of habitat (Savidge 1987). Estimates of 460 birds (Engbring and Ramsey 1984) in 1981 and fewer than 100 individuals (Engbring and Pratt 1985) in 1983 from the Pajon Basin had dwindled to only one sighting of a male in October 1983 (Beck 1984a). The last two sightings of the Guam broadbill in the wild were of transient males in 1984. Robert E. Beck, Jr. (DAWR) and Dr. Eugene Morton (Smithsonian Institution) sighted a male at Northwest Field in March 1984, and Philip Bruner (Brigham Young University of Hawaii) sighted the other in an area adjacent to the Navy golf course in Barrigada in August 1984 (Beck 1984a). The Guam broadbill has not been sighted in the Pajon Basin area since May 15, 1984, and the species is believed to be extinct (DAWR 1979-1986).

In September 1983, a male was collected for captive propagation (Beck 1984b). This captive breeding attempt failed as other wild individuals were not located and the captive male died of unknown causes (DAWR 1979-1986). Attempts at captively breeding the Guam broadbill were abandoned in 1984 due to its virtual disappearance from the wild (Beck 1984a, b).

Based on the last field sightings, the approximate date of extirpation of the Guam broadbill is 1984 (Beck 1984a, Wiles et al. 1995), and it was presumed to be extinct by 1985 (Beck 1984a, b; Savidge 1987; U.S. Fish and Wildlife Service 1990; Reichel and Glass 1991; Stinson 1994).

Reduction in the range of the Guam broadbill and its eventual extinction have been variously attributed to excessive pesticide spraying during and after World War II, the spread of avian diseases, and predation by introduced animals including rats (Rattus spp.), the monitor lizard (Varanus indicus), and the brown tree snake (Boiga irregularis). However, studies conducted by our Patuxtent Wildlife Research Center in 1983 indicated that pesticide overuse and avian diseases were not responsible for broadbill declines noted in the early 1980s. Instead, studies conducted by Savidge in 1986 implicated predation by the brown tree snake as the single most important factor in the decline of Guam's native forest birds, including the Guam broadbill (Savidge 1986, 1987; Conry 1988; Wiles et al. 1995; Rodda et al. 1997).

Previous Federal Action

Federal action on the Mariana mallard began on May 22, 1975, when the Fund for Animals, Inc., requested that we list 216 taxa of plants and animals as endangered species pursuant to the Act. These species appeared in Appendix I of the Convention on International Trade in Endangered Species of Wild Fauna and Flora (CITES), but did not appear on the United States List of Endangered and Threatened Wildlife and Plants. On September 26, 1975, we published in the Federal Register (40 FR 44329), a proposed rule to list 216 species as endangered, including the Mariana mallard. The rule that determined 159 of the 216 taxa to be endangered species was published on June 14, 1976 (41 FR 24062). The Mariana mallard was not included in this rule because the Governors of the States (which is defined by the Act to include Guam and the CNMI) in which this species was resident, inadvertently were not notified of the proposal as required by the Act. These Governors were then notified and allowed 90 days for comment. The Mariana mallard was listed as an endangered species on June 2, 1977, without critical habitat (42 FR 28137).

Federal action on the Guam broadbill began on February 27, 1979, when the Acting Governor of Guam petitioned us to list the Guam broadbill and five other forest bird species as endangered. On May 18, 1979, we issued a notice of review (44 FR 29128) for 12 petitioned animals, including the Guam broadbill. In our December 30, 1982, Review of Vertebrate Wildlife (47 FR 58454) the Guam broadbill was considered a category 1 candidate for Federal listing. Category 1 species were those for which we had substantial information on biological vulnerability and threats to support preparation of a listing proposal, but for which a listing proposal had not yet been published because it was precluded by other listing activities. On November 29, 1983, we published a proposed rule (48 FR 53729) to list the Guam broadbill as endangered. The final rule determining the Guam broadbill to be an endangered species was published on August 27, 1984 (49 FR 33881). Critical habitat was not designated.

Summary of Factors Affecting the Species

In accordance with the Act and implementing regulations at 50 CFR part 424, a species shall be listed if the Secretary of the Interior determines that one or more of five factors listed in section 4(a)(1) of the Act threatens the continued existence of the species. A species may be delisted according to § 424.11(d) if the best available scientific and commercial data indicate that the species is neither endangered nor threatened because of (1) extinction, (2) recovery, or (3) original data for classification of the species were in error.

A. The Present or Threatened Destruction, Modification, or Curtailment of Its Habitat or Range

Habitat loss was a major factor in the decline and subsequent extinction of the Mariana mallard. Since 1945, draining, fragmentation, and filling of wetlands for urban development has greatly reduced their quantity and quality on Guam, Tinian, and Saipan (Stinson et al. 1991, Reichel et al. 1992, Reichel and Lemke 1994). Between 1914 and 1945, during the Japanese occupation of Saipan and Tinian, most wetlands were converted to rice paddies. In more recent times, wetlands have been drained to provide potable water for new villages and converted into farmland (Bowers 1950, Reichel and Lemke 1994).

The Guam broadbill was endemic to the island of Guam and, until the mid-1970s, common in the northern half of the island. This species was found in woodland areas, forests with brushy undercover, areas dominated by the alien shrub, tangantangan (Leucaena leucocephala), southern riparian areas, coastal strand, and mangrove swamps. Though the island of Guam has undergone massive development and urbanization over the last 20 years, habitat destruction or modification is not believed to have been a major factor in the decline of this bird because population numbers declined in areas with intact habitat over this time period.

B. Overutilization for Commercial, Recreational, Scientific, or Educational Purposes

Over-hunting is believed to have been a major factor leading to the decline and subsequent extinction of the Mariana mallard, particularly during and immediately after WW II (Kuroda 1942, Baker 1948, Engbring and Fritts 1988, Reichel and Lemke 1994). Overutilization is not known to be a factor in the decline of the Guam broadbill.

C. Disease or Predation

Disease or predation is not known to have been a factor in the decline of the Mariana mallard. While the brown tree snake is believed to have been accidentally introduced to Guam between 1945 and 1952 (Rodda et al. 1992), it is not believed to have been a factor in the decline of the mallard because the snake prefers forest habitat. While a population of this voracious predator may now be established on Saipan, it is not believed to have been present on the island during the 1970s, when the last sighting of the Mariana mallard was made. The brown tree snake is not known to be established on Tinian.

The spread of avian disease and predation by introduced animals, including the monitor lizard, rats (Rattus spp.), cats (Felis catus), dogs (Canis familiaris), pigs (Sus scrofa), and the brown tree snake, were suspected as factors in the decline of the Guam broadbill at the time of its listing. However, later studies concluded that predation by the brown tree snake was probably the single most important factor in the drastic decline and subsequent extinction of the Guam broadbill (Savidge 1986, 1987; Conry 1988). These studies provided no evidence of its decline due to avian disease (Savidge 1986, 1987). By 1986, the snake was probably present throughout the island (Savidge 1986, 1987). Primarily arboreal, this snake preys upon eggs and hatchlings in nests, and roosting young and adults.

D. The Inadequacy of Existing Regulatory Mechanisms

The Mariana mallard was listed as an endangered species by the Trust Territory of the Pacific Islands in 1976 and by us in 1977. It is currently protected as endangered under Guam's Endangered Species Act (Pub. L. 15-36). The Mariana mallard was not listed as a threatened or endangered species by the CNMI government (CNMI 1991).

The Guam broadbill is presently protected as endangered under Guam's Endangered Species Act (Pub. L. 15-36) and is federally protected as an endangered species under the Endangered Species Act of 1973.

Protection as endangered species by the Federal government and governments of Guam and the Trust Territory of the Pacific Islands, was probably too late to compensate for the earlier effects of unrestricted hunting and habitat loss, in the case of the Mariana mallard, and for the accidental introduction and subsequent spread of the brown tree snake, in the case of the Guam broadbill.

E. Other Natural or Manmade Factors Affecting Their Continued Existence

At the time it was listed, one of the factors believed to have contributed to the critically low population levels of the Guam broadbill was overuse of pesticides. However, pesticide use has not been found to be a major factor in the decline of this species (Grue 1986, Savidge 1986, 1987).

In summary, all available information indicates that the Mariana mallard and the Guam broadbill are extinct. Previous population estimates made on Guam (1944), Tinian (1945), and Saipan (1947) for the Mariana mallard reported 12 or fewer individuals on each of these islands (Baker 1951). No confirmed sightings or vocalizations have been reported for this bird since 1979, and the last captive bird died in 1981. The Guam broadbill was reported to be on the verge of extinction at the time of its listing, and population estimates of 460 and less than 100 individuals were reported in 1981 and 1983, respectively. No confirmed sightings or vocalizations have been reported for this species since May 14, 1984, and the last captive bird died in February 1984. We propose to remove the Mariana mallard and the Guam broadbill from the List of Endangered and Threatened Wildlife.

Effects of This Rule

This rule, if made final, would revise § 17.11(h) to remove the Mariana mallard and the Guam broadbill from the Federal list of Endangered and Threatened Wildlife due to extinction. The prohibitions and conservation measures provided by the Act, particularly sections 7 and 9, will no longer apply to these species if this rule is made final. There is no designated critical habitat for these species.

The Mariana mallard and the Guam broadbill are protected by the government of Guam (Pub. L. 15-36). Removal of these species from the Federal list of Endangered and Threatened Wildlife does not alter or supersede their designation by the government of Guam as endangered species.

Public Comments Solicited

We intend for any final action resulting from this proposal to be as accurate as possible. Therefore, we solicit data, comments, or suggestions from the public, other concerned government agencies, the scientific community, industry, or any other interested party concerning this proposed rule. We particularly seek comments concerning:

(1) Biological, commercial trade, or other relevant data concerning the Mariana mallard and the Guam broadbill not included in this document; and

(2) The location of any individuals or populations of the Mariana mallard and the Guam broadbill.

The final decision on this proposal will take into consideration the comments and any additional information we receive, and such communications may lead to a final determination that differs from this proposal.

Our practice is to make comments, including names and home addresses of respondents, available for public review during regular business hours. Individual respondents may request that we withhold their home address from the rulemaking record, which we will honor to the extent allowable by law. In some circumstances, we will withhold a respondent's identity from the rulemaking record, as allowable by law. If you wish for us to withhold your name and/or address, you must state this request prominently at the beginning of your comment. However, we will not consider anonymous comments. We will make all submissions from organizations or businesses available for public inspection in their entirety.

Public Hearings

You may request a public hearing on this proposal. Your request for a hearing must be made in writing and filed within 45 days of the date of publication of this proposal in the Federal Register. Address your request to the Field Supervisor (see ADDRESSES section).

Clarity of This regulation

Executive Order 12866 requires each agency to write regulations that are easy to understand. We invite your comments on how to make this rule easier to understand including answers to the following: (1) Are the requirements of the rule clear? (2) Is the discussion of the rule in the Supplementary Information section of the preamble helpful to understanding the rule? (3) What else could we do to make the rule easier to understand?

Send a copy of any comments that concern how we could make this rule easier to understand to: Office of Regulatory Affairs, Department of the Interior, Room 7229, 1849 C Street NW., Washington, DC 20240. You may also e-mail the comments to this address: Exsec@ios.doi.gov.

National Environmental Policy Act

We have determined that preparation of an environmental assessment or environmental impact statement, as defined under the authority of the National Environmental Policy Act of 1969, is not necessary when issuing regulations adopted under section 4(a) of the Endangered Species Act of 1973, as amended. We published a notice outlining our reasons for this decision in the Federal Register on October 25, 1983 (48 FR 49244).

Paperwork Reduction Act

The OMB regulations at 5 CFR 1320, which implement provisions of the Paperwork Reduction Act, require that Federal agencies obtain approval from OMB before collecting information from the public. The OMB regulations at 5 CFR 1320.3(c) define a collection of information as the obtaining of information by or for an agency by means of identical questions posed to, or identical reporting, recordkeeping, or disclosure requirements imposed on ten or more persons. This rule does not include any collections of information that require approval by OMB under the Paperwork Reduction Act.

References Cited

A complete list of all references cited herein is available upon request from the Pacific Islands Ecoregion (see ADDRESSES section).

Authors

The primary authors of this proposed rule are Arlene Pangelinan and Lee Ann Woodward, Ecological Services, Pacific Islands Ecoregion, U.S. Fish and Wildlife Service (see ADDRESSES section).

List of Subjects in 50 CFR Part 17

Endangered and threatened species, Exports, Imports, Reporting and recordkeeping requirements, Transportation.

Regulation Promulgation

For the reasons set out in the preamble, we propose to amend part 17, subchapter B of chapter I, title 50 of the Code of Federal Regulations, as set forth below:

PART 17—[AMENDED]

1. The authority citation for part 17 continues to read as follows:

Authority: 16 U.S.C. 1361-1407; 16 U.S.C. 1531-1544; 16 U.S.C. 4201-4245; Pub. L. 99-625, 100 Stat. 3500; unless otherwise noted.

§ 17.11 [Amended]

2. Section 17.11(h) is amended by removing the entries for “Mallard, Mariana” and “Broadbill, Guam” under “BIRDS” from the List of Endangered and Threatened Wildlife.

Dated: July 17, 2001,
Marshall P. Jones, Jr.,
Acting Director, Fish and Wildlife Service.

[FR Doc. 02-1876 Filed 1-24-02; 8:45 am]

BILLING CODE 4310-55-P